DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Evaluation of the Comprehensive Community Mental Health Services for Children and Their Families Program: Phase VI—NEW.

The Substance Abuse and Mental Health Services Administration (SAMHSA), Center of Mental Health Services is responsible for the national evaluation of the Comprehensive Community Mental Health Services for Children and Their Families Program (Children's Mental Health Initiative—CMHI) that will collect data on child mental health outcomes, family life, and service system development and performance. Data will be collected on 26 service systems, and approximately 5,541 children and families.

Data collection for this evaluation will be conducted over a five-year period. Child and family outcomes of interest will be collected at intake and during subsequent follow-up sessions at six-month intervals. The length of time that individual families will participate in the study ranges from 12 to 24 months depending upon when they enter the evaluation. The outcome measures include the following: Child symptomatology and functioning, family functioning, satisfaction, and caregiver strain. The core of service system data will be collected every 18-24 months throughout the 5-year evaluation period, with a sustainability survey conducted in years 3 and 5. Service utilization and cost data will be tracked and submitted to the national evaluation every six months using two tools: The Flex Fund Tool and the Services and Costs Data Tool to estimate average cost of treatment per child, distribution of costs, and allocation of costs across service categories. Service delivery and system variables of interest include the following: Maturity of system of care development in funded system of care communities, adherence to the system of care program model, and client service experience. We will also conduct a comprehensive evaluation of the CMHI's data driven technical assistance; this component of the evaluation will employ a mixed-methods approach, combining qualitative and quantitative data to provide a comprehensive assessment of the continuous quality improvement (CQI) process in funded system of care communities. Specifically, data will be gathered through three complementary activities: A baseline survey of key constituents in all funded communities; a subsequent monitoring survey administered every two years to the same constituents; and biennial case studies of four selected communities.

In addition, the evaluation will include three special studies: (1) The sector specific assessment and quasi-experimental comparison study will examine in more detail the outcomes and service experience of children from multiple child-serving sectors and, through child-level matching, compare these outcomes with those not receiving system of care services; (2) The Alumni Network Study will examine the effectiveness of the system of care Alumni Network Web site by evaluating end-user satisfaction and usability of the Web site and will also assess the collaboration between communities via a Web-based Networking and Collaboration Survey that will measure the nature and extent of the interaction between communities; (3) The Study of State Strategies for Sustainability will examine the State's role in sustaining communities after Federal funding ceases and describe effective strategies for sustaining funded systems of care. A short version of the sustainability survey developed for this evaluation will be used to gather this information.

Internet-based technology such as Web-based surveys and data entry and management tools will be used in this evaluation. The measures of the national evaluation address the national outcome measures for mental health programs as currently established by SAMHSA.

The average annual respondent burden is estimated below. The estimate reflects the average number of respondents in each respondent category, the average number of responses per respondent per year, the average length of time it will take to complete each response, and the total average annual burden for each category of respondent, and for all categories of respondents combined.

Instrument | Respondent | Number of respondents | Total average number of responses per respondent | Hours per response | Total burden hours | 5-Year average annual burden hours
System-of-care Assessment
Interview Guides A-I, L-R | Key site informants | 546 | 3 | 1.0 | 1,638 | 328
Child and Family Outcome Study
Caregiver Information Questionnaire (CIQ-IC) | Caregiver | 5,541 | 1 | 0.4 | 2,032 | 406
Caregiver Information Questionnaire Follow-up (CIQ-FC) | Caregiver | 5,541 | 4 | 0.3 | 6,280 | 1,256
Caregiver Strain Questionnaire (CGSQ) | Caregiver | 5,541 | 5 | 0.2 | 4,627 | 925
Child Behavior Checklist (CBCL)/ Child Behavior Checklist 1½-5/6-18 | Caregiver | 5,541 | 5 | 0.3 | 9,226 | 1,845
Education Questionnaire—Revised (EQ-R) | Caregiver | 5,541 | 5 | 0.3 | 9,226 | 1,845
Living Situations Questionnaire (LSQ) | Caregiver | 5,541 | 5 | 0.1 | 2,300 | 460
Behavioral and Emotional Rating Scale-Second Edition, Parent Rating Scale (BERS-2C) | Caregiver | 4,931 | 5 | 0.2 | 4,117 | 823
Columbia Impairment Scale (CIS) | Caregiver | 4,931 | 5 | 0.1 | 2,046 | 409
Parenting Stress Index (PSI) | Caregiver | 1,528 | 5 | 0.1 | 637 | 127
Deveraux Early Childhood Assessment (DECA) | Caregiver | 1,528 | 5 | 0.1 | 637 | 127
Preschool Behavioral and Emotional Rating Scale—Second Edition, Parent Rating Scale (PBERS) | Caregiver | 1,528 | 5 | 0.1 | 764 | 153
Delinquency Survey—Revised (DS-R) | Youth | 3,452 | 5 | 0.1 | 2,301 | 460
Behavioral and Emotional Rating Scale—Second Edition, Youth Rating Scale (BERS-2Y) | Youth | 3,452 | 5 | 0.2 | 2,882 | 576
Gain-Quick Substance Related Issues | Youth | 3,452 | 5 | 0.1 | 1,433 | 287
Substance Use Survey—Revised (SUS-R) | Youth | 3,452 | 5 | 0.1 | 1,726 | 345
Revised Children's Manifest Anxiety Scales (RCMAS) | Youth | 3,452 | 5 | 0.1 | 863 | 173
Reynolds Adolescent Depression Scale—Second Edition (RADS-2) | Youth | 3,452 | 5 | 0.1 | 863 | 173
Youth information Questionnaire—Baseline (YIQ-I) | Youth | 3,452 | 1 | 0.3 | 863 | 173
Youth information Questionnaire—Follow-up (YIQ-F) | Youth | 3,452 | 4 | 0.3 | 3,452 | 690
Service Experience Study
Multi-Sector Service Contacts—Revised—Intake (MSSC-R-I) | Caregiver | 5,541 | 1 | 0.3 | 1,385 | 277
Multi-Sector Service Contacts—Revised—Follow-up (MSSC-R-F) | Caregiver | 5,541 | 4 | 0.3 | 5,541 | 1,108
Cultural Competence and Service Provision Questionnaire—Revised (CCSP-R) | Caregiver | 5,541 | 4 | 0.1 | 2,955 | 591
Youth Services Survey—Family (YSS-F) | Caregiver | 5,541 | 4 | 0.1 | 2,593 | 519
Youth Services Survey (YSS) | Youth | 3,452 | 4 | 0.1 | 1,146 | 229
Juvenile Justice Study
Delinquency Survey—Revised—JJ Addendum (DS-R-JJ) | Youth | 405 | 5 | 0.0 | 68 | 14
Court Representative Questionnaire | Court representatives | 212 | 5 | 0.2 | 177 | 35
Electronic Data Transfer of Juvenile Justice Records | Key site personnel | 212 | 5 | 0.0 | 35 | 7
Education Study
Teacher Questionnaire | Teacher | 212 | 5 | 0.3 | 265 | 53
School Administrator Questionnaire | School administrators | 212 | 5 | 0.2 | 177 | 35
Electronic Data Transfer of Education Records | Key site personnel | 212 | 5 | 0.0 | 35 | 7
Child Welfare Study
Child Welfare Sector Study Questionnaire—Intake (CWSQ-I) | Care coordinators | 487 | 1 | 0.5 | 244 | 49
Child Welfare Sector Study Questionnaire—Follow-up (CWSQ-F) | Care coordinators | 487 | 4 | 0.5 | 974 | 195
Sustainability Study
Sustainability Survey: Brief Form | Project Director | 79 | 2 | 0.2 | 26 | 5
Sustainability Survey | Providers | 180 | 2 | 0.8 | 270 | 54
Sustainability Survey | Caregiver | 60 | 2 | 0.8 | 90 | 18
CQI Effectiveness Evaluation
CQI Baseline Survey, Web-based | Key site personnel | 208 | 1 | 0.5 | 104 | 21
CQI Monitoring Survey, Web-based | Key site personnel | 208 | 2 | 0.5 | 208 | 42
Local Focus Group Guide | Key site personnel | 30 | 2 | 1.0 | 60 | 12
National Focus Group Guide | National TA providers | 20 | 2 | 1.0 | 40 | 8
Alumni Networking Study
Networking and Collaboration Survey | Key site personnel | 236 | 4 | 0.5 | 472 | 94
Alumni Network Satisfaction Survey | Key site personnel, nat'l TA providers, Branch staff | 458 | 3 | 0.3 | 344 | 69
Services and Costs Study
Flex Funds Data Dictionary/Tool | Local programming staff compiling/entering administrative data on children/youth | 1,306 | 3 | 0.0 | 129 | 26
Services and Costs Data Dictionary/Data Entry Application | Local evaluator, staff at partner agencies, and programming staff compiling/entering service and cost records on children/youth | 5,541 | 100 | 0.1 | 27,705 | 5,541

Respondent | Number of respondents | Number of responses/ respondent | Average burden/ response | Total average annual burden
Caregiver | 5,541 | 0.9 | 2.2 | 10,891
Youth | 3,452 | 0.9 | 1.0 | 3,119
Provider/Administrator | 546 | 10.5 | 1.1 | 6,580
Total | 9,539 |  |  | 20,591

Send comments to Summer King, SAMHSA Reports Clearance Officer, Room 7-1044, One Choke Cherry Road, Rockville, MD 20857 and e-mail her a copy at summer.king@samhsa.hhs.gov. Written comments should be received within 60 days of this notice.

March 11, 2009.
Elaine Parry,
Director, Office of Program Services.

[FR Doc. E9-5803 Filed 3-17-09; 8:45 am]

BILLING CODE 4162-20-P